DEPARTMENT OF THE TREASURY

Office of Foreign Assets Control

Notice of OFAC Sanctions Action

AGENCY: Office of Foreign Assets Control, Treasury.

ACTION: Notice.

SUMMARY: The Department of the Treasury's Office of Foreign Assets Control (OFAC) is publishing the name of one individual that has been placed on OFAC's Specially Designated Nationals and Blocked Persons List based on OFAC's determination that one or more applicable legal criteria were satisfied. All property and interests in property subject to U.S. jurisdiction of this person are blocked, and U.S. persons are generally prohibited from engaging in transactions with this individual.

DATES: See Supplementary Information section.

FOR FURTHER INFORMATION CONTACT:

OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On April 30, 2018, OFAC determined that the property and interests in property subject to U.S. jurisdiction of the following person are blocked under the relevant sanctions authority listed below.

Individual:

1. MABANZA, Myrna Ajijul (a.k.a. MABANZA, Myrna Adijul; a.k.a. MABANZA, Myrna Ajilul), Basilan Province, Philippines; Zamboanga City, Philippines; DOB 11 Jul 1991; nationality Philippines; Gender Female; Identification Number 73320881AG1191MAM20000; alt. Identification Number 200801087; alt. Identification Number 140000900032 (individual) [SDGT] (Linked To: ISIS-PHILIPPINES).

Designated pursuant to section 1(d)(i) of Executive Order 13224 of September 23, 2001, “Blocking Property and Prohibiting Transactions With Persons Who Commit, Threaten To Commit, or Support Terrorism” (E.O. 13224) for assisting in, sponsoring, or providing financial, material, or technological support for, or financial or other services to or in support of, ISIS-PHILIPPINES, an entity determined to be subject to E.O. 13224.

Dated: April 30, 2018.
John E. Smith,
Director, Office of Foreign Assets Control.

[FR Doc. 2018-09435 Filed 5-3-18; 8:45 am]

BILLING CODE 4810-AL-P